OFFICE OF PERSONNEL MANAGEMENT

[Docket ID: OPM-2024-0013]

Submission for Review: 3206-0173, Designation of Beneficiary (Civil Service and Federal Employee Retirement Systems), SF 3102

AGENCY: Office of Personnel Management.

ACTION: 60-Day notice and request for comments.

SUMMARY: The Office of Personnel Management (OPM), Retirement Services, offers the general public and other Federal agencies the opportunity to comment on the review of an expiring information collection request (ICR) without change, CSRS/FERS Designation of Beneficiary, SF 3102.

DATES: Comments are encouraged and will be accepted until July 22, 2024.

ADDRESSES: You may submit comments, identified by docket number and title, by the following method:

• Federal eRulemaking Portal: https://www.regulations.gov. Follow the instructions for submitting comments.

All submissions received must include the agency name and docket number for this document. The general policy for comments and other submissions from members of the public is to make these submissions available for public viewing at https://www.regulations.gov without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, by email to RSPublicationsTeam@opm.gov, or via telephone at (202) 936-0401.

SUPPLEMENTARY INFORMATION: Standard Form 3102, CSRS/FERS Designation of Beneficiary, is used by an employee or annuitant covered under the Civil Service Retirement System or the Federal Employees Retirement System to designate a beneficiary to receive any lump sum due in the event of his/her death.

OPM is requesting approval for this form to be designated as a “common form.” A common form is an information collection that can be used by two or more agencies, or government-wide, for the same purpose. It allows a host agency to obtain OMB approval of an information collection for use by one or more “using” agencies. After OMB grants approval, a prospective using agency that seeks to collect identical information for the same purpose can obtain approval to use the common form by providing its agency-specific information to OMB (e.g., burden estimates and number of respondents). See Frequently Asked Questions about ROCIS's New Common Forms Module (whitehouse.gov). OPM seeks the designation as a common form because this form is used by all Federal employees to designate a beneficiary to any lump sum due in the event of his/her death.

As required by the Paperwork Reduction Act of 1995 (Pub. L. 104-13), as amended (44 U.S.C. chapter 35), OPM is soliciting comments for this collection (OMB No. 3206-0173). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management, Retirement Services.

Title: CSRS/FERS Designation of Beneficiary.

OMB Number: 3206-0173.

Frequency: On occasion.

Affected Public: Individuals or Households.

Number of Respondents: 3,888.

Estimated Time per Respondent: 15 minutes.

Total Burden Hours: 972.

Office of Personnel Management.
Kayyonne Marston,
Federal Register Liaison.

[FR Doc. 2024-11236 Filed 5-21-24; 8:45 am]

BILLING CODE 6325-38-P